DEPARTMENT OF THE INTERIOR

Fish and Wildlife Service

Availability of Draft Comprehensive Conservation Plans (CCP) and Environmental Assessments for the Minnesota Wetland Management Districts (WMD) in Western Minnesota, Including: Big Stone WMD (Odessa, MN); Detroit Lakes WMD (Detroit Lakes, MN), Fergus Falls WMD (Fergus Falls, MN); Litchfield WMD (Litchfield, MN); Morris WMD (Morris, MN); and Windom WMD (Windom, MN)

AGENCY: Fish and Wildlife Service, Interior.

ACTION: Notice of availability.

SUMMARY: Pursuant to the Refuge Improvement Act of 1997, the U.S. Fish and Wildlife Service (Service) has published a draft Comprehensive Conservation Plan and Environmental Assessment for six wetland management districts in western Minnesota. These Plans describe how the Service intends to manage the Districts for the next 15 years.

DATES: Submit written comments by September 13, 2002. Comments should be addressed to the relevant Wetland Management District: Big Stone WMD: U.S. Fish and Wildlife Service, Big Stone National Wildlife Refuge, Attn: CCP Comment, Rural Route 1, Box 25, Odessa, MN, 62959. Detroit Lakes WMD: U.S. Fish and Wildlife Service, Detroit Lakes WMD, Attn: CCP Comment, Route 3, Box 47D, Tower Road, Detroit Lakes, MN 56501. Fergus Falls WMD: U.S. Fish and Wildlife Service, Fergus Falls WMD, Attn: CCP Comment, Route 1, Box 76, Fergus Falls, MN 56537. Litchfield WMD: U.S. Fish and Wildlife Service, Litchfield WMD, Attn: CCP Comment, 22274—615 Avenue, Litchfield, MN 55355. Morris WMD: U.S. Fish and Wildlife Service, Morris WMD, Attn: CCP Comment, 43875—230th Street, Morris, MN 56237. Windom, WMD: U.S. Fish and Wildlife Service, Windom WMD, Attn: CCP Comment, 49663 County Road 17, Windom, MN 56101.

Comments may also be submitted through the Service's regional Web site at http://midwest.fws,gov/planning.

ADDRESSES: A draft Plan or summary may be obtained by writing to the Refuge or WMD at the previously listed addresses or submitting a request electronically. These documents will also be made available in portable document format (pdf) on the U.S. Fish and Wildlife Service website at http://midwest.fws,gov/planning/minnwetlanddistrictstop.htm.

FOR FURTHER INFORMATION CONTACT: For additional information on the Draft Comprehensive Conservation Plans and Environmental Assessments, contact the District Managers; Big Stone WMD, Rich Papasso, 320/273-2191; Detroit Lakes WMD, Mark Chase, 218/847-4431; Fergus Falls WMD, Kevin Brennan, 218/729-2291; Litchfield WMD, Christenson, 320/693-2849; Morris WMD, Steven Delehanty, 320/589-1001; Windom WMD, Steven Kallin, 507/831-2220.

SUPPLEMENTARY INFORMATION: In 1997, Congress mandated that the Service prepare a comprehensive conservation plan for each refuge within the National Wildlife Refuge System. This mandate includes Wetland Management Districts, which are federal administrative units charged with acquiring, overseeing and managing Waterfowl Production Areas and easements within a specific group of counties. Comprehensive conservation plans guide management decisions over the course of 15 years. The Draft Comprehensive Conservation Plans for each of the six Minnesota Wetland Management Districts identify goals and objectives for habitat management, land protection and wildlife-dependent recreation, as well as strategies for achieving those goals and objectives.

Dated: June 18, 2002.
Marvin Moriarty,
Acting Regional Director.

[FR Doc. 02-20131 Filed 8-8-02; 8:45 am]

BILLING CODE 4310-55-M